NUCLEAR REGULATORY COMMISSION

U.S. Digital Instrumentation and Control and Human-Machine Interface Workshop

AGENCY: Nuclear Regulatory Commission.

ACTION: Opportunity to provide input concerning digital instrumentation and control and human-machine interface test and research in the United States.

SUMMARY: The increasing use of digital instrumentation and controls, and the growing prevalence of human interactions with such systems, in nuclear generating and fuel cycle facilities have introduced new regulatory challenges along with the potential benefit of improved plant safety. Currently, the U.S. Nuclear Regulatory Commission (NRC) addresses these challenges by analyzing their scope, impact, and potential adverse plant interactions, and then conducting research on each safety-related topical issue identified through this analysis. Often, such analyses and research are performed under contracts that the NRC establishes with commercial entities, national laboratories, universities, and international research facilities. However, there may be advantages to alternative approaches such as establishing a single, integrated test facility with expertise in the areas of digital instrumentation and controls and human-machine interfaces (DIC&HMI).

The NRC is conducting public workshops to review the current and future technical issues in the area of digital instrumentation and control and human-machine interface (I&C and HMI), to identify the capabilities that a facility or facilities would need to have to support their resolution. The workshop will review the capabilities of current facilities and consider lessons learned from their operation. Based on this information a set of options will be developed. Toward that end, the NRC invites stakeholders including those with existing capabilities, as well as others who may be interested in participating (such as national laboratories, universities, other Federal agencies, research and development centers, and vendors), to participate in the workshops. The workshops will seek to develop a consensus in the technical community regarding a set of overarching principles that should be met to ensure the success of any conceptual approaches discussed. Options may include relying on current facilities; upgrading current facilities; or developing a single, integrated facility. In addition, it is necessary to determine the number of organizations within the community that are interested in each option.

Interested parties should note that the staff is working with Pacific Northwest National Laboratory, to develop additional information on experiences that other similar facilities have had, in order to learn from their successes and challenges.

DISCUSSION: The NRC will hold two workshops to engage potentially interested stakeholders. The first workshop will be held on September 6-7, 2007, at the Clarion Hotel at Atlanta International Airport, which is located at 5010 Old National Highway in Atlanta, Georgia. This initial workshop will review, at a conceptual level the current and future technical issues in the area of digital instrumentation and control and human-machine interface (I&C and HMI) and will identify the capabilities that a facility or facilities would need to have to support their resolution. The workshop will review the capabilities of current facilities and consider lessons learned from their operation. Based on this information the workshop will develop a set of options for establishing additional capabilities, if needed, or ways to integrate current capabilities in a manner that creates synergies and efficiencies to support current and future needs of the technical community in the digital I&C and HMI areas.

The second workshop will be held on September 11, 2007, at the Hilton Washington DC/Rockville Executive Meeting Center, which is located at 1750 Rockville Pike in Rockville, Maryland. This workshop will use information gathered at the Atlanta workshop regarding the additional capabilities (if any) that the community requires to address current and future Digital Instrumentation and Control (I&C) and Human Machine Interface (HMI) issues and the facility options available to perform this work. The workshop will discuss at a conceptual level how each of the facility options could be managed. These management issues include potential participants, funding arrangements, conflict of interest (COI) considerations, and siting. Additional information about both workshops can be obtained at http://nrc-test-facility.pnl.gov.

Additionally, to promote the efficiency and effectiveness of these workshops, the NRC invites interested stakeholders to provide comments in the following areas:

(1) Which potential participants might be interested in joint participation, collaboration, and funding of such a facility, and to what extent might this include participants outside the nuclear industry?

(2) If the nuclear industry participates, how could conflict-of-interest issues be addressed?

(3) Do similar facilities currently exist and, if so, what can be learned from their successes and challenges?

(4) What siting options would be most viable (e.g., universities where integration with graduate studies might be encouraged, national laboratories, etc.), considering both cost and ease of technical information exchange?

(5) To what extent could such a facility be designed to be reconfigurable to the expected variety of plant control room and HMI designs?

(6) To what extent could such a facility be designed to also be used as an advanced reactor training simulator for NRC staff?

(7) What impediments, if any, might exist to limit information sharing among participants and external stakeholders?

(8) What could be the benefits, or adverse impacts, of existing and established international collaborative activities in this area?

(9) What could be the NRC's legal, budgetary, and oversight role?

(10) Would stakeholders potentially be interested in the establishment of a facility that would serve as a national technical center of excellence to support a wide range of agencies and industries that have needs and interests in the rapidly advancing areas of instrumentation and controls, digital safety systems, and human-machine interfaces?

The workshop results and public comments received, along with other information developed as a result of the staff's discussions with interested stakeholders, will be used to support NRC decision making on this subject.

AVAILABILITY AND DATES: Additional information is available through the NRC Test Facility Working Group Web page, at http://nrc-test-facility.pnl.gov. Comments would be most helpful if received by September 30, 2007.

COMMENT PROCEDURES: The NRC staff encourages and welcomes stakeholder participation in the workshops, as well as submittal of related comments and suggestions from interested parties. Personal information, such as your name, address, telephone number, e-mail address, etc., will not be removed from your submission.

You may submit comments by any of the following methods:

• Mail comments to Leonard Bond, Ph.D, Pacific Northwest National Laboratory, P.O. Box 999, Mail Stop K5-26, Richland, WA 99352.

• Provide comments on-line at http://nrc-test-facility.pnl.gov.

• E-mail comments to Leonard.Bond@pnl.gov.

CONTACT INFORMATION: General questions regarding this study or the related workshops should be addressed to Steven A. Arndt at (301) 415-6502 or by e-mail to SAA@nrc.gov.

Dated at Rockville, Maryland, this 17 day of August, 2007.
For the U.S. Nuclear Regulatory Commission.
Brian W. Sheron, Director,
Office of Nuclear Regulatory Research.

[FR Doc. E7-17299 Filed 8-30-07; 8:45 am]

BILLING CODE 7590-01-P